DEPARTMENT OF HOMELAND SECURITY

Federal Emergency Management Agency

44 CFR Part 65

[Docket ID FEMA-2010-0003; Internal Agency Docket No. FEMA-B-1082]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona: Gila | Town of Payson (09-09-0436P) | September 15, 2009; September 22, 2009; Payson Roundup | The Honorable Kenny Evans, Mayor, Town of Payson, 303 North Beeline Highway, Payson, AZ 85541 | January 20, 2010 | 040107
California:
San Diego | City of Vista (09-09-0724P) | September 18, 2009; September 25, 2009; North County Times | The Honorable Morris B. Vance, Mayor, City of Vista, City Hall, 600 Eucalyptus Avenue, Vista, CA 92084 | October 5, 2009 | 060297
Shasta | City of Anderson (09-09-1040P) | September 23, 2009; September 30, 2009; Anderson Valley Post | The Honorable Butch Schaefer, Mayor, City of Anderson, 1887 Howard Street, Anderson, CA 96007 | January 28, 2009 | 060359
Ventura | City of Ojai (09-09-0524P) | September 10, 2009; September 17, 2009; Ventura County Star | The Honorable Joe DeVito, Mayor, City of Ojai, P.O. Box 1570, Ojai, CA 93024 | January 15, 2009 | 060416
Ventura | Unincorporated areas of Ventura County (09-09-0524P) | September 10, 2009; September 17, 2009; Ventura County Star | The Honorable Linda F. Parks, Chairperson, Ventura County Board of Supervisors, County Government Center, 800 South Victoria Avenue, Ventura, CA 93009 | January 15, 2009 | 060413
Colorado:
El Paso | City of Colorado Springs (09-08-0002P) | September 23, 2009; September 30, 2009; The Gazette | The Honorable Lionel Rivera, Mayor, City of Colorado Springs, P.O. Box 1575, Colorado Springs, CO 80901 | January 28, 2009 | 080060
Jefferson | Unincorporated areas of Jefferson County (09-08-0257P) | September 30, 2009; October 7, 2009; High Timber Times | The Honorable J. Kevin McCasky, Chairman, Jefferson County Board of Commissioners, 100 Jefferson County Parkway, Golden, CO 80419 | October 5, 2009 | 080087
Delaware: New Castle | Unincorporated areas of New Castle County (09-03-0870P) | September 7, 2009; September 14, 2009; The News Journal | The Honorable Christopher Coons, New Castle County Executive, 87 Reads Way Corporate Commons, New Castle, DE 19720 | August 21, 2009 | 105085
Florida:
Alachua | City of Gainesville (09-04-1384P) | October 2, 2009; October 9, 2009; The Gainesville Sun | The Honorable Pegeen Hanrahan, Mayor, City of Gainesville, P.O. Box 490, Station 19, Gainesville, FL 32601 | September 24, 2009 | 125107
Osceola | City of Kissimmee (08-04-1601P) | August 6, 2009; August 13, 2009; Osceola News Gazette | The Honorable Jim Swan, Mayor, City of Kissimmee, 101 North Church Street, Kissimmee, FL 34741 | August 24, 2009 | 120190
Osceola | Unincorporated areas of Osceola County (08-04-1601P) | August 6, 2009; August 13, 2009; Osceola News Gazette | The Honorable John “Q” Quinones, Chairman, Osceola County Board of Commissioners, One Courthouse Square, Suite 4700, Kissimmee, FL 34741 | August 24, 2009 | 120189
Polk | Unincorporated areas of Polk County (09-04-5687P) | September 9, 2009; September 16, 2009; Polk County Democrat | The Honorable Sam Johnson, Chairman, Polk County Board of Commissioners, P.O. Box 9005, Drawer BC01, Bartow, FL 33831 | August 31, 2009 | 120261
Georgia: DeKalb | City of Atlanta (08-04-5599P) | May 8, 2009; May 15, 2009; Atlanta Journal-Constitution | The Honorable Shirley Franklin, Mayor, City of Atlanta, 55 Trinity Avenue, Atlanta, GA 30303 | May 28, 2009 | 135157
Illinois:
Kane | City of Batavia (09-05-2286P) | September 15, 2009; September 22, 2009; The Chronicle | The Honorable Jeffery D. Schielke, Mayor, City of Batavia, 100 North Island Avenue, Batavia, IL 60510 | September 1, 2009 | 170321
Kane | Village of Hampshire (09-05-1214P) | August 28, 2009; September 4, 2009; Northwest Herald | The Honorable Jeffrey Magnussen, President, Village of Hampshire, P.O. Box 457, Hampshire, IL 60140 | August 13, 2009 | 170327
Kane | Unincorporated areas of Kane County (09-05-2286P) | September 15, 2009; September 22, 2009; The Chronicle | The Honorable Karen McConnaughay, Chairman, Kane County Board, 719 South Batavia Avenue, Geneva, IL 60134 | September 1, 2009 | 1708965
McHenry | Village of Johnsburg (09-05-2578P) | August 21, 2009; August 28, 2009; Northwest Herald | Mr. Edwin P. Hettermann, President, Village of Johnsburg, 1515 West Channel Beach Drive, McHenry, IL 60050 | August 17, 2009 | 170486
Maine: Penobscot | Town of Hampden (09-01-0938P) | September 7, 2009; September 14, 2009; Bangor Daily News | The Honorable Matthew Arnett, Mayor, Town of Hampden, 106 Western Avenue, Hampden, ME 04444 | August 21, 2009 | 230168
Michigan: Kent | City of Grand Rapids (09-05-1087P) | July 1, 2009; July 8, 2009; Grand Rapids Press | Mr. Mark De Clercq, P.E., City Engineer, City of Grand Rapids, 300 Monroe Avenue, Northwest, Grand Rapids, MI 49503 | June 23, 2009 | 260106
Nebraska:
Howard | Unincorporated areas of Howard County (09-07-0907P) | September 23, 2009; September 30, 2009; The Phonograph Herald | The Honorable Bill Sack, Chairman, Howard County Board of Commissioners, 1057 Kimball Road, St. Paul, NE 68873 | January 28, 2010 | 310446
Howard | City of St. Paul (09-07-0907P) | September 23, 2009; September 30, 2009; The Phonograph Herald | The Honorable Danny Nielsen, Mayor, City of St. Paul, 704 6th Street, St. Paul, NE 68873 | January 28, 2010 | 310119
New Mexico:
Santa Fe | City of Santa Fe (09-06-1398P) | September 8, 2009; September 15, 2009; Santa Fe New Mexican | The Honorable David Coss, Mayor, City of Santa Fe, P.O. Box 909, Santa Fe, NM 87504 | January 13, 2010 | 350070
Santa Fe | City of Santa Fe (09-06-1729P) | September 8, 2009; September 15, 2009; Santa Fe New Mexican | The Honorable David Coss, Mayor, City of Santa Fe, P.O. Box 909, Santa Fe, NM 87504 | January 13, 2010 | 350070
Oklahoma: Cleveland | City of Oklahoma City (08-06-3106P) | September 17, 2009; September 24, 2009; The Oklahoman | The Honorable Mick Cornett, Mayor, City of Oklahoma City, 200 North Walker Street, 3rd Floor, Oklahoma City, OK 73102 | January 22, 2010 | 405378
Oregon:
Marion | Unincorporated areas of Marion County (09-10-0011P) | August 14, 2009; August 21, 2009; Statesman Journal | The Honorable Patti Milne, Chairman, Marion County Board of Commissioners, P.O. Box 14500, Salem, OR 97309 | July 31, 2009 | 410154
Marion | City of Salem (09-10-0011P) | August 14, 2009; August 21, 2009; Statesman Journal | The Honorable Janet Taylor, Mayor, City of Salem, 555 Liberty Street Southeast, Room 220, Salem, OR 97301 | July 31, 2009 | 410167
Pennsylvania:
Adams | City of Latimore (09-03-1567P) | September 10, 2009; September 17, 2009; Gettysburg Times | The Honorable Dan Worley, Chairman, Latimore Township Board of Supervisors, 559 Old U.S. Route 15, York Springs, PA 17372 | January 15, 2010 | 421162
Adams | City of Reading (09-03-1567P) | September 10, 2009; September 17, 2009; Gettysburg Times | The Honorable Joseph Lemmon, Chairman, Township of Reading Board of Supervisors, 50 Church Road, East Berlin, PA 17316 | January 15, 2010 | 420004
Tennessee:
Knox | Unincorporated areas of Knox County (09-04-2543P) | September 4, 2009; September 11, 2009; Knoxville News Sentinel | The Honorable Mike Ragsdale, Mayor, Knox County, 400 Main Street, Suite 615, Knoxville, TN 37902 | January 11, 2010 | 475433
Knox | City of Knoxville (09-04-2543P) | September 4, 2009; September 11, 2009; Knoxville News Sentinel | The Honorable Bill Haslam, Mayor, City of Knoxville, P.O. Box 1631, Knoxville, TN 37901 | January 11, 2010 | 475434
Knox | City of Knoxville (09-04-3474P) | September 18, 2009; September 25, 2009; Knoxville News Sentinel | The Honorable Bill Haslam, Mayor, City of Knoxville, P.O. Box 1631, Knoxville, TN 37901 | January 25, 2010 | 475434
Williamson | City of Brentwood (08-04-5486P) | September 10, 2009; September 17, 2009; The Tennessean | The Honorable Betsy Crossley, Mayor, City of Brentwood, 5211 Maryland Way, Brentwood, TN 37027 | August 27, 2009 | 470205
Texas:
Brazoria and Harris | City of Pearland (08-06-0819P) | June 24, 2009; July 1, 2009; Pearland Reporter-News | The Honorable Tom Reid, Mayor, City of Pearland, 3519 Liberty Drive, Pearland, TX 77581 | October 29, 2009 | 480077
Denton | Town of Trophy Club (09-06-1124P) | September 11, 2009; September 18, 2009; Denton Record-Chronicle | The Honorable Nick Sanders, Mayor, Town of Trophy Club, 100 Municipal Drive, Trophy Club, TX 76262 | January 18, 2010 | 481606
Webb | City of Laredo (08-06-1006P) | September 2, 2008; September 9, 2008; Laredo Morning Times | The Honorable Raul G. Salinas, Mayor, City of Laredo, City Hall, 1110 Houston Street, Laredo, TX 78040 | January 9, 2009 | 480651
Williamson | City of Round Rock (09-06-0338P) | September 10, 2009; September 17, 2009; Round Rock Leader | The Honorable Alan McGraw, Mayor, City of Round Rock, 221 East Main Street, Round Rock, TX 78664 | January 15, 2010 | 481048
Williamson | Unincorporated areas of Williamson County (09-06-0529P) | September 10, 2009; September 17, 2009; Round Rock Leader | The Honorable Dan A. Gattis, Williamson County Judge, 710 Main Street, Suite 101, Georgetown, TX 78626 | January 15, 2010 | 481079

(Catalog of Federal Domestic Assistance No. 97.022, “Flood Insurance.”)

Dated: March 18, 2010.
Edward L. Connor,
Acting Federal Insurance and Mitigation Administrator, Mitigation, Department of Homeland Security, Federal Emergency Management Agency.

[FR Doc. 2010-8084 Filed 4-8-10; 8:45 am]

BILLING CODE 9110-12-P